DEPARTMENT OF TRANSPORTATION

Federal Aviation Administration

14 CFR Part 39

[Docket No. 2003-SW-07-AD]

RIN 2120-AA64

Airworthiness Directives; Eurocopter France Model EC120B Helicopters

AGENCY: Federal Aviation Administration, DOT.

ACTION: Notice of proposed rulemaking (NPRM).

SUMMARY: This document proposes adopting a new airworthiness directive (AD) for the specified Eurocopter France (Eurocopter) model helicopters. This proposal would require operators to either temporarily or permanently secure the electrical bonding braid (bonding braid) that is installed on the left cyclic pitch control stick base within 10 hours time-in-service (TIS) and, if temporarily secured, installing a permanent attachment system for the bonding braid within 500 hours TIS or 12 months, whichever occurs first. This proposal is prompted by a report of a bonding braid twisting around the attachment nut installed on the bolt that connects the roll channel torque link to the left-hand cyclic pitch control stick. The actions specified by this proposed AD are intended to prevent an unsecured bonding braid from restricting travel of the cyclic pitch control stick, and subsequent loss of control of the helicopter.

DATES: Comments must be received on or before September 15, 2003.

ADDRESSES: Submit comments in triplicate to the Federal Aviation Administration (FAA), Office of the Regional Counsel, Southwest Region, Attention: Rules Docket No. 2003-SW-07-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2003-SW-07-AD.” The postcard will be date stamped and returned to the commenter.

Discussion

The Direction Generale De L'Aviation Civile (DGAC), the airworthiness authority for France, notified the FAA that an unsafe condition may exist on Eurocopter Model EC 120 B helicopters. The DGAC advises that there was a report involving twisting of a bonding braid at the base of a cyclic stick that restricted movement of the cyclic pitch sticks.

Eurocopter has issued Alert Telex No. 67A008, dated July 8, 2002, which specifies installing a clamp to position the bonding braid upwards and holding it against the cyclic pitch stick. DGAC classified this alert telex as mandatory and issued AD 2002-371-010(A), dated July 24, 2002, to ensure the continued airworthiness of these helicopters in France.

This helicopter model is manufactured in France and is type certificated for operation in the United States under the provisions of 14 CFR 21.29 and the applicable bilateral agreement. Pursuant to the applicable bilateral agreement, DGAC has kept the FAA informed of the situation described above. The FAA has examined the findings of the DGAC, reviewed all available information, and determined that AD action is necessary for products of this type design that are certificated for operation in the United States.

The previously described unsafe condition is likely to exist or develop on other helicopters of the same type design registered in the United States. Therefore, the proposed AD would require, within 10 hours TIS, temporarily or permanently securing the bonding braid using clamps, then, if not already accomplished, installing a permanent attachment system within 500 hours TIS or 12 months, whichever occurs first. Installing the permanent attachment system is a terminating action for the requirements of this AD. The actions would be required to be accomplished in accordance with the alert telex described previously.

On July 10, 2002, the FAA issued a new version of 14 CFR part 39 (67 FR 47997, July 22, 2002), which governs the FAA's AD system. The regulation now includes material that relates to altered products, special flight permits, and alternative methods of compliance. Because we have now included this material in part 39, we no longer need to include it in each individual AD.

The FAA estimates that this proposed AD would affect 80 helicopters of U.S. registry and the proposed actions would take approximately 0.5 work hour per helicopter to accomplish the modification to temporarily secure the bonding braid, and 0.5 work hour to install a permanent attachment system. The average labor rate is $60 per work hour. Required parts would cost approximately $20 per helicopter. Based on these figures, we estimate the total cost impact of the proposed AD on U.S. operators to be $6,400 for the entire fleet, assuming that all operators install the temporary restraint, and subsequently, install the permanent restraint.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2003-SW-07-AD.

Applicability: Model EC120B helicopters, certificated in any category.

Compliance: Required as indicated, unless accomplished previously.

To prevent an unsecured bonding braid from restricting travel of the cyclic pitch control stick, and subsequent loss of control of the helicopter, accomplish the following:

(a) Within 10 hours time-in-service (TIS), temporarily secure the electrical bonding braid or install the permanent attachment system for the bonding braid in accordance with the Accomplishment Instructions, paragraph 2.B., of Eurocopter France Alert Telex No. 67A008, dated July 8, 2002 (Alert Telex).

(b) Within 500 hours TIS or 12 months, whichever occurs first, install the permanent attachment system for the bonding braid in accordance with the Accomplishment Instructions, paragraphs 2.B.2. and 2.B.3., of the Alert Telex.

(c) To request a different method of compliance or a different compliance time for this AD, follow the procedures in 14 CFR 39.19. Send the proposal to the Manager, Safety Management Group, FAA. Contact the Safety Management Group for information about previously approved alternative methods of compliance.

Note: The subject of this AD is addressed in Direction Generale De L'Aviation (France) AD 2002-371-010(A), dated July 24, 2002.

Issued in Fort Worth, Texas, on July 1, 2003.
David A. Downey,
Manager, Rotorcraft Directorate, Aircraft Certification Service.

[FR Doc. 03-17955 Filed 7-15-03; 8:45 am]

BILLING CODE 4910-13-P